ENVIRONMENTAL PROTECTION AGENCY

[EPA-HQ-OPP-2006-0710; FRL-8090-8]

The Association of American Pesticide Control Officials State FIFRA Issues Research and Evaluation Group Working Committee on Pesticide Operations and Management; Notice of Public Meeting

AGENCY: Environmental Protection Agency (EPA).

ACTION: Notice.

SUMMARY: The Association of American Pesticide Control Officials (AAPCO)/State FIFRA Issues Research and Evaluation Group (SFIREG) Working Committee on Pesticide Operations and Management (WC/POM) will hold a 2-day meeting, beginning on October 2, 2006 and ending October 3, 2006. This notice announces the location and times for the meeting and sets forth the tentative agenda topics.

DATES: The meeting will be held on October 2, 2006 from 8.30 a.m. to 5 p.m. and 8:30 a.m. to 12 noon on October 3, 2006.

To request accommodation of a disability, please contact the person listed under FOR FURTHER INFORMATON CONTACT, preferably at least 10 days prior to the meeting, to give EPA as much time as possible to process your request.

ADDRESSES: The meeting will be held at Radisson Hotel Reagan National Airport, 2020 Jefferson Davis Highway, Arlington, VA 22202.

FOR FURTHER INFORMATION CONTACT: Georgia McDuffie, Field and External Affairs Division (7506P), Office of Pesticide Programs, Environmental Protection Agency, 1200 Pennsylvania Ave., NW., Washington, DC 20460-0001; telephone number: (703) 605-0195; fax number: (703) 308-1850; e-mail address: mcduffie.georgia@epa.gov or Philip H. Gray, SFIREG Executive Secretary, P.O. Box 1249, Hardwick, VT 05843-1249; telephone number: (802) 472-6956; fax (802) 472-6957; e-mail address: aapco@plainfield.bypass.com.

SUPPLEMENTARY INFORMATION:

I. General Information

A. Does this Action Apply to Me?

You may be potentially affected by this action if you are parties interested in SFIREG information exchange relationship with EPA regarding important issues related to human health, environmental exposure to pesticides, and insight into EPA's decision-making process are invited and encouraged to attend the meetings and participate as appropriate. Potentially affected entities may include, but are not limited to: Those persons who are or may be required to conduct testing of chemical substances under the Federal Food, Drug and Cosmetic Act (FFDCA), or the Federal Insecticide, Fungicide, and Rodenticide Act (FIFRA).

B. How Can I Get Copies of this Document and Other Related Information?

Docket. EPA has established a docket for this action under docket identification (ID) number EPA-HQ-OPP-2006-0710. Publicly available docket materials are available either in the electronic docket at http://www.regulations.gov, or, if only available in hard copy, at the Office of Pesticide Programs (OPP) Regulatory Public Docket in Rm. S-4400, One Potomac Yard (South Bldg.), 2777 S. Crystal Drive Arlington, VA. The hours of operation of this Docket Facility are from 8:30 a.m. to 4 p.m., Monday through Friday, excluding legal holidays. The Docket telephone number is (703) 305-5805.

II. Tentative Agenda

1. SFIREG Issue Paper on Laboratory Methodology.

2. SFIREG Issue Paper on 25(b) Product Registration.

3. PART Measure Discussion on State's Perspective on How It Has Been Working and Recommendations to take to SFIREG.

4. State Data Harmonzation.

5. Label Identification Proposals, Recommendations to SFIREG.

6. Chemigation Tape Issue.

7. Worker Protection Safety and Certification and Training Status of Changes.

8. Endangered Species Enforcement Questions.

9. Parking Lot Issues and Recommendations for SFIREG.

10. EPA Update/Briefing.

• a. Office of Pesticide Programs Update.

• b. Office of Enforcement Compliance Assurance Update.

11. POM Working Committee Workgroups Issue Papers/Updates.

12. Misting System Labeling and associated REDs.

List of Subjects

Environmental protection, Pesticides and pests.

Dated: August 28, 2006.
William R. Diamond,
Director, Field External Affairs Division, Office of Pesticide Programs.

[FR Doc. E6-14990 Filed 9-12-06; 8:45 am]

BILLING CODE 6560-50-S